Title 3—

The President

Proclamation 8894 of October 29, 2012—To Implement the United States-Panama Trade Promotion Agreement and for Other Purposes

Correction

In Presidential document 2012-27143 beginning on page 66507 in the issue of Monday, November 5, 2012, make the following correction:

On page 66507, the proclamation identification heading on line one should read “Proclamation 8894 of October 29, 2012”.

[FR Doc. C1-2012-27143

Filed 1-9-13; 8:45 am]

Billing code 3295-F3